NUCLEAR REGULATORY COMMISSION

Request for a License To Export Radioactive Waste

Pursuant to Title 10 of the Code of Federal Regulations (10 CFR) 110.70 (b) “Public Notice of Receipt of an Application,” please take notice that the U.S. Nuclear Regulatory Commission (NRC) has received the following request for an export license. A copy of the request is available electronically through the Agencywide Documents Access and Management System (ADAMS), and can be accessed online in the ADAMS Public Documents collection at http://www/nrc/gov/reading-rm/adams.html. To begin the search, select “ADAMS public Documents” and then select “Begin Web-based ADAMS Search.” For problems with ADAMS, please contact the NRC's Public Document Room reference staff at 1-800-397-4209, 301-415-4737, or by email to pdr.resource@nrc.gov. The ADAMS accession number for each document referenced is provided in the “Description of Material.”

A request for a hearing or petition for leave to intervene may be filed within 30 days after publication of this notice in the Federal Register (FR). Any request for hearing or petition for leave to intervene shall be served by the requestor or petitioner upon the applicant, the office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR 49139; August 28, 2007. Information about filing electronically is available on the NRC's public Web site at http://www.nrc.gov/site-help/e-submittals.html. To ensure timely electronic filing, at least 5 days prior to the filing deadline, the petitioner/requestor should contact the Office of the Secretary by email at HEARINGDOCKET@NRC.GOV, or by calling (301) 415-1677, to request a digital ID certificate and allow for the creation of an electronic docket.

In addition to a request for hearing or petition for leave to intervene, written comments, in accordance with 10 CFR 110.81, should be submitted within thirty days after publication of this notice in the Federal Register to Office of the Secretary, U.S. Nuclear Regulatory Commission, Washington, DC 20555, Attention: Rulemaking and Adjudications.

The information concerning this application for an export license follows.

NRC Export License Application
[Description of material]
Name of applicant, date of application, date received, application No., docket No., ADAMS accession No. | Material type | Total quantity | End use | Destination
UniTech Services Group, Inc October 20, 2016 October 27, 2016 XW023 11006249 ML17024A266 | Low-level radioactive waste consisting of tools, metals, and other solid materials | 10,000 metric tons | For land disposal in the originating country; Canada | Canada

Dated this 2nd day of February 2017 at Rockville, Maryland.
For the Nuclear Regulatory Commission.
David L. Skeen,
Deputy Director, Office of International Programs.

[FR Doc. 2017-03129 Filed 2-15-17; 8:45 am]

BILLING CODE 7590-01-P